DEPARTMENT OF TRANSPORTATION

Federal Highway Administration

Environmental Impact Statement: Los Angeles County, CA

AGENCY: Federal Highway Administration (FHWA), DOT.

ACTION: Notice of intent.

SUMMARY: The FHWA is issuing this notice to advise the public that an environmental impact statement will be prepared for a proposed highway project in Los Angeles County, California.

FOR FURTHER INFORMATION CONTACT: César Pérez, Team Leader—South Region, Federal Highway Administration, 650 Capitol Mall, Suite 4-100, Sacramento, California 95814 Telephone (916) 498-5065.

SUPPLEMENTARY INFORMATION: The FHWA, in cooperation with the California Department of Transportation (Caltrans) and the Alameda Corridor Transportation Authority (ACTA), will reinitiate environmental studies and prepare an Environmental Impact Statement (EIS) on a proposal to improve State Route 47 (SR-47) in Los Angeles County, California. The proposed improvement would involve replacing the seismically deficient Schuyler Heim Bridge with a new fixed-span bridge and the construction/extension of SR-47 as a new four-lane elevated expressway from the new Heim Bridge along Alameda Street to Pacific Coast Highway (State Route 1). The new fixed-span bridge would change the current vertical and horizontal clearances through the Cerritos Channel. The elevated expressway would provide a direct route from Terminal Island to Alameda Street, resulting in the elimination of five at-grade railroad crossings and ultimately reduce truck traffic on Interstates 710 and 110.

During 2002, Caltrans and ACTA began formal public scoping and initiation of environmental studies for the proposed project. Notice letters were sent to Federal, State and local agencies on January 28, 2002. Notices were prepared in the Federal Register and local newspapers, advertising public scoping and open house meetings, on February 13, 2002, at 2:30 p.m. and 4:30 p.m. respectively. Public comments were received until February 28, 2002. A review of subsequent environmental studies led to FHWA to conclude that an EIS would be required. Budgetary constraints then led Caltrans to temporarly suspend the project.

Major project elements to be evaluated in the EIS include: Replacement of the vertical-lift Schuyler Heim Bridge with a fixed-span bridge; construction of an elevated four-lane expressway to State Route 1; and, potential realignment of surface roads and ramps. The EIS will consider a variety of possible alignments for these improvements, as well as the “no-build” alternative.

Letters describing the re-initiation of studies and soliciting comments will be sent to appropriate Federal, State and local agencies and to private organizations and citizens who have previously expressed, or are known to have, an interest in this proposal.

Additional public scoping and open house meetings for the Draft EIS/EIR will be held at the Wilmington Senior Center located at 1371 Eubank Ave., Wilmington, California 90745. The public meetings will be held on September 9, 2004, at 2:30 p.m. and 5:30 p.m., respectively. In addition, a public hearing will be held following completion of the Draft EIS/EIR. A public notice will published for the time and place of the hearing. The Draft EIS/EIR will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal program and activities apply to this program)

Issued on: July 20, 2004.
César E. Pérez,
South Region Team Leader, Federal Highway Administration, California Division.

[FR Doc. 04-16918 Filed 7-23-04; 8:45 am]

BILLING CODE 4910-22-M